DEPARTMENT OF THE TREASURY

Proposed Collections; Comment Requests

AGENCY: Departmental Offices; U.S. Department of the Treasury.

ACTION: Notice and request for comments.

SUMMARY: The Department of the Treasury, as part of its continuing effort to reduce paperwork burdens, invites the general public and other Federal agencies to comment on the revision of an information collection that is proposed for approval by the Office of Management and Budget. The Office of International Affairs within the Department of the Treasury is soliciting comments concerning Treasury International Capital Form D, Report of Holdings of, and Transactions in, Financial Derivatives Contracts with Foreign Residents.

DATES: Written comments should be received on or before November 14, 2011 to be assured of consideration.

ADDRESSES: Direct all written comments to Dwight Wolkow, International Portfolio Investment Data Systems, Department of the Treasury, Room 5422, 1500 Pennsylvania Avenue, NW., Washington DC 20220. In view of possible delays in mail delivery, please also notify Mr. Wolkow by e-mail (comments2TIC@treasury.gov), Fax (202-622-2009) or telephone (202-622-1276).

FOR FURTHER INFORMATION CONTACT: Copies of the proposed forms and instructions are available on the Treasury's TIC Forms webpage, http://www.treasury.gov/resource-center/data-chart-center/tic/Pages/forms.aspx. Requests for additional information should be directed to Mr. Wolkow.

SUPPLEMENTARY INFORMATION:

Title: Treasury International Capital Form D, Report of Holdings of, and Transactions in, Financial Derivatives Contracts with Foreign Residents.

OMB Control Number: 1505-0199.

Abstract: Form D is part of the Treasury International Capital (TIC) reporting system, which is required by law (22 U.S.C. 286f; 22 U.S.C. 3103; E.O. 10033; 31 CFR 128) for the purpose of providing timely information on international capital movements other than direct investment by U.S. persons. Form D is a quarterly report used to cover holdings and transactions in derivatives contracts undertaken between foreign resident counterparties and major U.S.-resident participants in derivatives markets. This information is necessary for compiling the U.S. balance of payments accounts and international investment position, and for formulating U.S. international financial and monetary policies.

Current Actions: (a) The deadline for submitting the Form D report is shortened from 60 days to 50 days. The instructions, in section I.F, will read: “Form D reports should be submitted not later than 50 calendar days following the report's as-of date, which is the last day of the calendar quarter being reported.” The change in the reporting deadline will allow the U.S. to meet international data reporting standards. That is, at present, the U.S. is able to report on time all elements of its balance of payments accounts and its international investment position collected by the TIC reporting system except for its data on derivatives. This shortening of the reporting deadline should be feasible given data reporters' experience in completing the report since it was introduced in March 2005. (b) In part 1 of Form D, the title of row 2.a is changed to Forwards and Foreign Exchange Swaps from Forwards and row 2.b will be entitled Currency Swaps in place of Swaps. The purpose of this change is to clarify where Foreign Exchange Swaps should be reported. There is no change in reporting requirements. For example, the current instructions for row 2.b describe currency swaps, not foreign exchange swaps. (c) These changes are effective beginning with the reports as of March 31, 2012.

Type of Review: Revision of a currently approved collection.

Affected Public: Business or other for profit organizations. Form D (1505-0199).

Estimated Number of Respondents: 35.

Estimated Average Time per Respondent: Thirty (30) hours per respondent per filing. Estimated Total Annual Burden Hours: 4,200 hours, based on 4 reporting periods per year.

Request for Comments: Comments submitted in response to this notice will be summarized and/or included in the request for Office of Management and Budget approval. All comments will become a matter of public record. The public is invited to submit written comments concerning: (a) Whether Form D is necessary for the proper performance of the functions of the Office, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Systems.

[FR Doc. 2011-23586 Filed 9-13-11; 8:45 am]

BILLING CODE 4810-25-P